DEPARTMENT OF THE TREASURY

Fiscal Service

Surety Companies Acceptable on Federal Bonds: Correction—Cooperativa de Seguros Multiples de Puerto Rico

AGENCY: Financial Management Service, Fiscal Service, Department of the Treasury.

ACTION: Notice.

SUMMARY: This is Supplement No. 1 to the Treasury Department Circular 570; 2001 Revision, published July 2, 2001, at 66 FR 35024.

FOR FURTHER INFORMATION CONTACT: Surety Bond Branch at (202) 874-6765.

SUPPLEMENTARY INFORMATION: The underwriting limitation for Cooperatival de Seguros Multiples de Puerto Rico, which was last listed in Treasury Department Circular 570, July 2, 2001 revision at 66 FR 35034 as $12,640,000, is hereby corrected to read $14,450,000, effective today.

Federal bond-approving officers should annotate their reference copies of the Treasury Circular 570, 2001 Revision, at page 35034 to reflect this change. The Circular may be viewed and downloaded through the Internet at http://www.fms.treas.gov/c570/index.html. A hard copy may be purchased from the Government Printing Office (GPO), Subscription Service, Washington, DC, telephone (202) 512-1800. When ordering the Circular from GPO, use the following stock number: 769-004-04067-1.

Questions concerning this notice may be directed to the U.S. Department of the Treasury, Financial Management Service, Financial Accounting and Services Division, Surety Bond Branch, 3700 East-West Highway, Room 6A04, Hyattsville, MD 20782.

Dated: August 7, 2001.
Wanda J. Rogers,
Director, Financial Accounting and Services Division, Financial Management Service.

[FR Doc. 01-20678 Filed 8-15-01; 8:45 am]

BILLING CODE 4810-35-M